DEPARTMENT OF HOMELAND SECURITY

Federal Emergency Management Agency

[Docket ID FEMA-2008-0015]

National Incident Management System Guideline for the Credentialing of Personnel

AGENCY: Federal Emergency Management Agency, DHS.

ACTION: Notice of availability; request for comments.

SUMMARY: The Federal Emergency Management Agency (FEMA) is accepting comments on the National Incident Management System (NIMS) Guideline for the Credentialing of Personnel (the Guideline). The Guideline provides guidance on how to best credential the personnel who respond to incidents, including large-scale terrorist attacks and catastrophic natural disasters that require inter-State deployable mutual aid.

DATES: Comments must be received by January 21, 2009.

ADDRESSES: The Guideline is available online at http://www.regulations.gov. You may also view a hard copy of the Guideline at the Office of Chief Counsel, Federal Emergency Management Agency, Room 835, 500 C Street, SW., Washington, DC 20472. You may submit comments on the Guideline, identified by Docket ID FEMA-2008-0015, using one of the following methods:

Federal eRulemaking Portal: http://www.regulations.gov. Follow the instructions for submitting comments, to the proper Docket ID.

E-mail: FEMA-POLICY@dhs.gov. Include Docket ID in the subject line of the message.

Fax: 866-466-5370.

Mail/Hand Delivery/Courier: Regulation & Policy Team, Office of Chief Counsel, Federal Emergency Management Agency, Room 835, 500 C Street, SW., Washington, DC 20472.

Instructions: All Submissions received must include the agency name and Docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to the Federal eRulemaking Portal at http://www.regulations.gov. Submitted comments may also be inspected at FEMA, Office of Chief Counsel, Room 835, 500 C Street, SW., Washington, DC 20472.

FOR FURTHER INFORMATION CONTACT: Robert Schweitzer, Executive Director, National Preparedness Directorate, Federal Emergency Management Agency, 500 C Street SW., Washington, DC 20472, 202-646-3234.

SUPPLEMENTARY INFORMATION: On February 28, 2003, the President issued Homeland Security Presidential Directive—5 (HSPD-5), Management of Domestic Incidents, which directed the Secretary of Homeland Security to develop and administer a National Incident Management System (NIMS). This system provides a consistent nationwide template to enable Federal, State, tribal, and local governments, the private sector, and nongovernmental organizations to work together to prevent, protect against, respond to, recover from, and mitigate the effects of incidents, regardless of cause, size, location, or complexity. This consistency provides the foundation for utilization of NIMS for all incidents, ranging from daily occurrences to incidents requiring a coordinated Federal response. NIMS represents a core set of doctrines, concepts, principles, terminology, and organizational processes that enables effective, efficient, and collaborative incident management. One of the elements of NIMS is the credentialing of personnel that may respond to disasters.

The Guideline provides guidance on how to best credential the personnel who respond to incidents, including large-scale terrorist attacks and catastrophic natural disasters that require inter-State deployable mutual aid. The Guideline will encourage interoperability among Federal, State, and local officials and will facilitate deployment for response and/or restoration. The Guideline will allow incident commanders to exercise enhanced access control in times of crisis.

For non-Federal stakeholders, the Guideline will help ensure that when called upon for mutual aid, emergency response officials from multiple jurisdictions and sectors will have interoperable processes. This will enable emergency response officials to spend less time processing and being processed and more time responding to the incident. The Guideline is built upon scalable, flexible, and adaptable coordinating structures to align key roles and responsibilities across the Nation. It describes specific authority and best practices for managing interstate disasters and integrates credentialing within the Incident Command System.

FEMA solicits comments on the draft Guideline, which is available in Docket ID FEMA-2008-0015 at http://www.regulations.gov.

Authority: Homeland Security Act of 2002, Public Law 107-296, as amended; Homeland Security Presidential Directive—5, Management of Domestic Incidents, and Implementing Recommendations of the 9/11 Commission Act of 2007, Public Law 110-53, Section 408 and 409.

Dated: December 8, 2008.
R. David Paulison,
Administrator, Federal Emergency Management Agency.

[FR Doc. E8-30333 Filed 12-19-08; 8:45 am]

BILLING CODE 9110-21-P